DEPARTMENT OF HOMELAND SECURITY

Coast Guard

33 CFR Part 165

[Docket No. USCG-2019-0045]

Safety Zone; Tchefuncte River, Madisonville, LA

AGENCY: Coast Guard, DHS.

ACTION: Notice of enforcement of regulation.

SUMMARY: The Coast Guard will enforce a safety zone for a fireworks display located on the navigable waters of the Tchefuncte River in front of the Madisonville Town Hall for the annual Fourth of July celebration. This action is needed to provide for the safety of life on these navigable waterways during this event.

DATES: The regulations in 33 CFR 165.801, Table 5, line 15 will be enforced from 8 p.m. through 9 p.m. on July 4, 2019.

FOR FURTHER INFORMATION CONTACT: If you have questions about this notice of enforcement, call or email Lieutenant Commander Benjamin Morgan, Sector New Orleans, U.S. Coast Guard; telephone 504-365-2281, email Benjamin.P.Morgan@uscg.mil.

SUPPLEMENTARY INFORMATION: The Coast Guard will enforce the safety zone located in 33 CFR 165.801, Table 5, line 15 for the Madisonville Old Fashioned 4th of July event. The regulations will be enforced from 8 p.m. through 9 p.m. on July 4, 2019. This action is being taken to provide for the safety of life on these navigable waterways during this event. Our regulations for marine events within the Eighth Coast Guard District, 33 CFR 168.801, as updated by Federal Register Document 83 FR 55488, specifies the location of the regulated area on the Tchefuncte River at approximate position 30°24′11.63″ N 090°09′17.39 W, in front of the Madisonville Town Hall. During the enforcement period, if you are the operator of a vessel in the regulated area, you must comply with directions from Captain of the Port Sector New Orleans or a designated representative.

In addition to this notice of enforcement in the Federal Register, the Coast Guard plans to provide notification of this enforcement period via a Marine Safety Information Bulletin and Broadcast Notice to Mariners.

Dated: April 2, 2019,
K.M. Luttrell,
Captain, U.S. Coast Guard, Captain of the Port Sector New Orleans.

[FR Doc. 2019-06947 Filed 4-9-19; 8:45 am]

BILLING CODE 9110-04-P